SMALL BUSINESS ADMINISTRATION

[Disaster Declaration #10919 and #10920]

Texas Disaster Number TX-00254

AGENCY: U.S. Small Business Administration.

ACTION: Amendment 6.

SUMMARY: This is an amendment of the Presidential declaration of a major disaster for the State of Texas (FEMA-1709-DR), dated 06/29/2007.

Incident: Severe Storms, Tornadoes, and Flooding.

Incident Period: 06/16/2007 through 08/03/2007.

DATES: Effective Date: 08/07/2007.

Physical Loan Application Deadline Date: 08/28/2007.

EIDL Loan Application Deadline Date: 03/31/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 06/29/2007 is hereby amended to include the following areas as adversely affected by the disaster:

Primary Counties:

Guadalupe, Henderson, Nueces, Van Zandt, Walter, and Zavala.

Contiguous Counties:

Texas: Aransas, Comal, Freestone, Gonzales, Grimes, Hunt, Jim Wells, Kaufman, Kinney, Kleberg, Madison, Montgomery, Navarro, Rains, San Jacinto, Trinity, and Wilson.

All other information in the original declaration remains unchanged.

(Catalog of Federal Domestic Assistance Numbers 59002 and 59008)

Roger B. Garland,
Acting Associate Administrator for Disaster Assistance.

[FR Doc. E7-16191 Filed 8-16-07; 8:45 am]

BILLING CODE 8025-01-P